DEPARTMENT OF AGRICULTURE

Animal and Plant Health Inspection Service

[Docket No. APHIS-2018-0078]

Notice of Proposed Revision To Import Requirements for the Importation of Fresh Citrus Fruit From Australia Into the United States

AGENCY: Animal and Plant Health Inspection Service, USDA.

ACTION: Notice of availability.

SUMMARY: We are advising the public that we have prepared a pest risk analysis and treatment evaluation document relative to the importation into the United States of citrus fruit from additional areas of production in Australia. Based on the findings of these documents, we are proposing to authorize the importation of citrus fruit from additional areas of production in Australia, and revise the conditions under which citrus fruit from authorized areas of production in Australia may be imported into the United States. We are making the pest risk analysis and treatment evaluation document available to the public for review and comment.

DATES: We will consider all comments that we receive on or before February 16, 2021.

ADDRESSES: You may submit comments by either of the following methods:

• Federal eRulemaking Portal: Go to http://www.regulations.gov/#!docketDetail;D=APHIS-2018-0078.

• Postal Mail/Commercial Delivery: Send your comment to Docket No. APHIS-2018-0078, Regulatory Analysis and Development, PPD, APHIS, Station 3A-03.8, 4700 River Road, Unit 118, Riverdale, MD 20737-1238.

Supporting documents and any comments we receive on this docket may be viewed at http://www.regulations.gov/#!docketDetail;D=APHIS-2018-0078 or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Mr. Tony Román, Senior Regulatory Policy Specialist, Regulatory Coordination and Compliance, PPQ, APHIS, 4700 River Road, Unit 133, Riverdale, MD 20737-1231; (301) 851-2242.

SUPPLEMENTARY INFORMATION: Under the regulations in “Subpart L—Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 of the regulations provides the requirements for authorizing the new importation of fruits and vegetables into the United States, as well as revising existing requirements for the importation of fruits and vegetables. Paragraph (c) of that section provides that the name and origin of all fruits and vegetables authorized importation into the United States, as well as the requirements for their importation, are listed on the internet in APHIS' Fruits and Vegetables Import Requirements database, or FAVIR (https://epermits.aphis.usda.gov/manual). It also provides that, if the Administrator determines that any of the phytosanitary measures required for the importation of a particular fruit or vegetable are no longer necessary to reasonably mitigate the plant pest risk posed by the fruit or vegetable, APHIS will publish a notice in the Federal Register making its pest risk analysis and determination available for public comment.

Citrus fruit from Australia is currently listed in FAVIR as a fruit authorized importation into the United States, subject to the following phytosanitary measures:

• The citrus fruit must be produced in Riverina region of New South Wales District, Riverland region of South Australia, or Sunraysia region in Northwest Victoria District.

• The citrus fruit must either originate from an area within these approved production areas that is free of the fruit flies Bactrocera tryoni (Queensland fruit fly) and Ceratitis capitata (Medfly), or be treated with cold treatment in accordance with treatment schedule T107-d or T107-d-2 (all citrus other than lemons) or T107-d-3 (lemons), as well as the relevant requirements of 7 CFR part 305, which contains APHIS' phytosanitary treatment regulations.

• The citrus fruit must be accompanied by a phytosanitary certificate that attests to the production in a pest-free area of production or that indicates that cold treatment was applied to the commodity during transit to the United States, and that contains an additional declaration stating that the fruit in the consignment was subject to phytosanitary measures to ensure the consignment is free of Epiphyas postvittana (light brown apple moth).

• The citrus fruit is subject to inspection at the port of entry into the United States.

• Only commercial consignments of Australian citrus fruit may be imported into the United States.

• The citrus fruit must be imported under permit.

APHIS received a request from the national plant protection organization (NPPO) of Australia to authorize the importation of citrus from three additional areas of Australia: The inland region of Queensland, the regions that compose Western Australia, and the shires of Bourke and Narromine within New South Wales District. The NPPO also asked us to reevaluate whether light brown apple moth could follow the pathway of citrus fruit from Australia into the United States.

In response to Australia's request, we have prepared a pest risk assessment (PRA) to evaluate the pests of quarantine significance that could follow the pathway of importation of fresh citrus from these areas of Australia into the United States. The PRA also evaluates whether light brown apple moth, which exists in the areas, is likely to follow the pathway of citrus fruit from the areas into the United States. Based on the PRA, a commodity import evaluation document (CIED) was prepared to identify phytosanitary measures that could be applied to the importation of citrus fruit from these additional areas of Australia to mitigate the pest risk.

We have concluded that citrus can safely be imported from these additional areas of Australia into the United States, using the following phytosanitary measures:

• The citrus must either originate from an area within these approved production areas that is free of the fruit flies Queensland fruit fly, Medfly, and/or Bactrocera neohumeralis (Lesser Queensland fruit fly), or be treated with cold treatment for the relevant fruit flies. If the area has Medfly but is free of Queensland fruit fly and Lesser Queensland fruit fly, treatment schedule T107-a may be used. If the area has Queensland fruit fly or Lesser Queensland fruit fly, treatment schedules T107-d-2 or T107-d-3 must be used. We have prepared a treatment evaluation document (TED) that determines that these two schedules are effective for Lesser Queensland fruit fly on Australian citrus.

• The citrus must be accompanied by a phytosanitary certificate that attests to the production in a pest-free area of production or that indicates that cold treatment was applied to the commodity during transit to the United States. We are not requiring an additional declaration for light brown apple moth because the PRA considers this pest unlikely to follow the pathway on citrus fruit from these areas. We are also proposing to remove the additional declaration requirement for light brown apple moth for the importation of citrus fruit from other approved areas of Australia.

• The citrus is subject to inspection at the port of entry into the United States.

• Only commercial consignments of Australian citrus may be imported into the United States.

• An operational work plan that details the requirements under which citrus will be safely imported is in place.

• The citrus fruit must be imported under permit.

Therefore, in accordance with § 319.56-4(c)(3), we are announcing the availability of our PRA and CIED for public review and comment. Those documents, as well as a description of the economic considerations associated with the importation of fresh citrus fruit from these additional areas of Australia and the TED, may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments we receive, we will announce our decision regarding whether to revise the requirements for the importation of citrus fruit from Australia in a subsequent notice. If the overall conclusions of our analysis and the Administrator's determination of risk remain unchanged following our consideration of the comments, then we will revise the requirements for the importation of citrus fruit from Australia in accordance with this notice.

Authority: 7 U.S.C. 1633, 7701-7772, and 7781-7786; 21 U.S.C. 136 and 136a; 7 CFR 2.22, 2.80, and 371.3.

Done in Washington, DC, this 14th day of December 2020.
Michael Watson,
Administrator, Animal and Plant Health Inspection Service.

[FR Doc. 2020-27803 Filed 12-16-20; 8:45 am]

BILLING CODE 3410-34-P